DEPARTMENT OF COMMERCE

International Trade Administration

[A-570-964, A-201-838]

Seamless Refined Copper Pipe and Tube From the People's Republic of China and Mexico: Postponement of Preliminary Determinations of Antidumping Duty Investigations

AGENCY: Import Administration, International Trade Administration, Department of Commerce.

DATES: Effective Date: February 25, 2010.

FOR FURTHER INFORMATION CONTACT: Karine Gziryan (the People's Republic of China) or Joy Zhang (Mexico), AD/CVD Operations, Offices 4 and 3, Import Administration, International Trade Administration, U.S. Department of Commerce, 14th Street and Constitution Avenue, NW., Washington, DC 20230; telephone: (202) 482-4081 or (202) 482-1168, respectively.

SUPPLEMENTARY INFORMATION:

Postponement of Preliminary Determinations

On October 20, 2009, the Department of Commerce (“the Department”) initiated the antidumping investigations of Seamless Refined Copper Pipe and Tube from the People's Republic of China and Mexico. See Seamless Refined Copper Pipe and Tube from the People's Republic of China and Mexico: Initiation of Antidumping Duty Investigations, 74 FR 42852 (October 27, 2009).

The notice of initiation stated that unless postponed the Department would issue the preliminary determinations for these investigations no later than 140 days after the date of initiation, in accordance with section 733(b)(1)(A) of the Tariff Act of 1930, as amended (“the Act”). The preliminary determinations were originally due no later than March 9, 2010. After being tolled for seven days, the preliminary determinations are currently due no later than March 16, 2010. See Memorandum For The Record from Ronald Lorentzen, DAS for Import Administration, titled “Tolling of Administrative Deadlines As a Result of the Government Closure During the Recent Snowstorm,” dated February 12, 2010.

On February 12, 2010, Cerro Flow Products, Inc., KobeWieland Copper Products, LLC, Mueller Copper Tube Products, Inc., and Mueller Copper Tube Company, Inc. (collectively, “Petitioners”), made a timely request pursuant to section 733(c)(1)(A) of the Act and 19 CFR 351.205(e) for a 50-day postponement of the preliminary determinations. The petitioners requested postponement of the preliminary determinations in order to ensure that the Department has adequate time to conduct a complete and thorough investigation of respondents in these proceedings.

Because there are no compelling reasons to deny the request, the Department is postponing the deadline for the preliminary determinations pursuant to section 733(c)(1)(A) of the Act to May 5, 2010, the 190th day from the date of initiation, when adjusted for the seven days referenced above. The deadline for the final determinations will continue to be 75 days after the date of the preliminary determinations, unless postponed.

This notice is issued and published pursuant to sections 733(c)(2) of the Act and 19 CFR 351.205(f)(1).

Dated: February 18, 2010.
Ronald K. Lorentzen,
Deputy Assistant Secretary for Import Administration.

[FR Doc. 2010-3881 Filed 2-24-10; 8:45 am]

BILLING CODE 3510-DS-P